DEPARTMENT OF COMMERCE

International Trade Administration

[A-821-819]

Magnesium Metal From the Russian Federation: Preliminary Results of Antidumping Duty Administrative Review

AGENCY: Import Administration, International Trade Administration, Department of Commerce.

SUMMARY: In response to timely requests, the Department of Commerce (the Department) is conducting an administrative review of the antidumping duty order on magnesium metal from the Russian Federation for the period of review (POR) April 1, 2008, through March 31, 2009. The review covers two respondents, PSC VSMPO-AVISMA Corporation (AVISMA) and Solikamsk Magnesium Works (SMW).

The Department preliminarily determines that AVISMA did not make sales to the United States at less than normal value. If these preliminary results are adopted in the final results of this administrative review, we will instruct U.S. Customs and Border Protection (CBP) to assess no antidumping duties on entries by AVISMA during the POR. SMW reported that it had no shipments to the United States during the POR. The preliminary results are listed below in the section titled “Preliminary Results of Review.”

DATES: Effective Date: May 13, 2010.

FOR FURTHER INFORMATION CONTACT: Hermes Pinilla or Minoo Hatten, AD/CVD Operations, Office 5, Import Administration, International Trade Administration, U.S. Department of Commerce, 14th Street and Constitution Avenue, NW., Washington, DC 20230; telephone: (202) 482-3477 or (202) 482-1690, respectively.

SUPPLEMENTARY INFORMATION:

Background

The Department published the antidumping duty order on magnesium metal from the Russian Federation on April 15, 2005. See Notice of Antidumping Duty Order: Magnesium Metal From the Russian Federation, 70 FR 19930 (April 15, 2005) (Antidumping Duty Order). On April 1, 2009, the Department published in the Federal Register a notice of opportunity to request an administrative review of the antidumping duty order on magnesium metal from the Russian Federation. See Antidumping or Countervailing Duty Order, Finding, or Suspended Investigation; Opportunity to Request Administrative Review, 74 FR 14771 (April 1, 2009). On April 30, 2009, AVISMA, a Russian Federation producer of the subject merchandise, requested that the Department conduct an administrative review. On April 30, 2009, U.S. Magnesium Corporation LLC, the petitioner in this proceeding, requested that the Department conduct an administrative review with respect to AVISMA and SMW, another Russian Federation producer of the subject merchandise. On May 29, 2009, the Department published a notice of initiation of an administrative review of the antidumping duty order on magnesium metal from the Russian Federation for the period April 1, 2008, through March 31, 2009. See Initiation of Antidumping and Countervailing Duty Administrative Reviews, 74 FR 25711 (May 29, 2009).

On December 16, 2009, the Department extended the deadline for the preliminary results of this antidumping duty administrative review from December 31, 2009, to April 30, 2010. See Magnesium Metal from the Russian Federation: Notice of Extension of Time Limit for Preliminary Results of Antidumping Duty Administrative Review, 74 FR 66619 (December 16, 2009).

As explained in the Memorandum from the Deputy Assistant Secretary for Import Administration, the Department has exercised its discretion to toll deadlines for the duration of the closure of the Federal Government from February 5 through February 12, 2010. Thus, the deadline in this segment of the proceeding has been extended by seven days. The revised deadline for the preliminary results of the antidumping administrative review on magnesium metal from the Russian Federation is now May 7, 2010. See Memorandum to the Record from Ronald Lorentzen, DAS for Import Administration, regarding “Tolling of Administrative Deadlines As a Result of the Government Closure During the Recent Snowstorm,” dated February 12, 2010.

Scope of the Order

The merchandise covered by the order is magnesium metal (also referred to as magnesium), which includes primary and secondary pure and alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by the order includes blends of primary and secondary magnesium.

The subject merchandise includes the following pure and alloy magnesium metal products made from primary and/or secondary magnesium, including, without limitation, magnesium cast into ingots, slabs, rounds, billets, and other shapes, and magnesium ground, chipped, crushed, or machined into raspings, granules, turnings, chips, powder, briquettes, and other shapes: (1) Products that contain at least 99.95 percent magnesium, by weight (generally referred to as “ultra-pure” magnesium); (2) products that contain less than 99.95 percent but not less than 99.8 percent magnesium, by weight (generally referred to as “pure” magnesium); and (3) chemical combinations of magnesium and other material(s) in which the magnesium content is 50 percent or greater, but less that 99.8 percent, by weight, whether or not conforming to an “ASTM Specification for Magnesium Alloy.”

The scope of the order excludes: (1) Magnesium that is in liquid or molten form; and (2) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.¹

¹ This second exclusion for magnesium-based reagent mixtures is based on the exclusion for reagent mixtures in the 2001 investigations of magnesium from the People's Republic of China, Israel, and the Russian Federation. See Notice of Final Determination of Sales at Less Than Fair Value: Pure Magnesium in Granular Form From the People's Republic of China, 66 FR 49345 (September 27, 2001), and Notice of Final Determination of Sales at Less Than Fair Value: Pure Magnesium From Israel, 66 FR 49349 (September 27, 2001); Notice of Final Determination of Sales at Not Less Than Fair Value: Pure Magnesium From the Russian Federation, 66 FR 49347 (September 27, 2001). These mixtures are not magnesium alloys, because they are not chemically combined in liquid form and cast into the same ingot.

The merchandise subject to the order is currently classifiable under items 8104.11.00, 8104.19.00, 8104.30.00, and 8104.90.00 of the Harmonized Tariff Schedule of the United States (HTSUS). Although the HTSUS item numbers are provided for convenience and customs purposes, the written description of the merchandise covered by the order is dispositive. See Id.

SMW

On June 1, 2009, SMW submitted a letter indicating that it made no sales to the United States during the POR. We have not received any comments on SMW's submission. We confirmed SMW's claim of no shipments by issuing a “No Shipments Inquiry” to CBP and by reviewing electronic CBP data. See Memorandum to the File, entitled “Magnesium Metal from the Russian Federation—Placement of Customs Data on the Record,” dated May 7, 2010.

With regard to SMW's claim of no shipments, our practice since implementation of the 1997 regulations concerning no-shipment respondents has been to rescind the administrative review if the respondent certifies that it had no shipments and we have confirmed through our examination of CBP data that there were no shipments of subject merchandise during the POR. See Antidumping Duties; Countervailing Duties, 62 FR 27296, 27393 (May 19, 1997), and Oil Country Tubular Goods from Japan: Preliminary Results of Antidumping Duty Administrative Review and Partial Rescission of Review, 70 FR 53161, 53162 (September 7, 2005), unchanged in Oil Country Tubular Goods from Japan: Final Results and Partial Rescission of Antidumping Duty Administrative Review, 71 FR 95 (January 3, 2006). As a result, in such circumstances, we normally instruct CBP to liquidate any entries from the no-shipment company at the deposit rate in effect on the date of entry.

In our May 6, 2003, “automatic assessment” clarification, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003).

Based on SMW's assertion of no shipments and confirmation of that claim by CBP data, we preliminarily determine that SMW had no sales to the United States during the POR.

Because “as entered” liquidation instructions do not alleviate the concerns which the May 2003 clarification was intended to address, we find it appropriate in this case to instruct CBP to liquidate any existing entries of merchandise produced by SMW and exported by other parties at the all-others rate should we continue to find at the time of our final results that SMW had no shipments of subject merchandise from the Russian Federation. See, e.g., Certain Frozen Warmwater Shrimp from India: Partial Rescission of Antidumping Duty Administrative Review, 73 FR 77610, 77612 (December 19, 2008). In addition, the Department finds that it is more consistent with the May 2003 clarification not to rescind the review in part in these circumstances but, rather, to complete the review with respect to SMW and issue appropriate instructions to CBP based on the final results of the review. See the Assessment Rates section of this notice below.

Verification

As provided in section 782(i) of the Tariff Act of 1930, as amended (the Act), we verified the information submitted by AVISMA with regard to its sales in the United States.

We used standard verification procedures including examination of relevant accounting and production records and original source documents provided by AVISMA. See U.S. Sales Verification Report, entitled “Verification of the Sales Response of PSC VSMPO-AVISMA Corporation in the Antidumping Review of Magnesium Metal from the Russian Federation,” (U.S. Sales Verification Report), dated May 7, 2010. We are scheduled to conduct the home-market sales and cost-of-production verifications in mid-May 2010. Any post-preliminary results verification findings will be reflected in the final results.

Date of Sale

The petitioner has alleged that AVISMA made sales to certain U.S. customers where the issuance of invoices for such sales occurred in the 2007/08 POR but the subject merchandise was shipped during the 2008/09 POR. The petitioner alleges that these sales should be reported in the 2008/09 POR because the material terms of these “bill-and-hold sales” were not established until AVISMA shipped its merchandise to its U.S. customers (and received payment), not when it issued the invoice. AVISMA has contended that the date of sale is the invoice date because the terms of sales were final and, as a result, it was appropriate to report the bill-and-hold sales in the completed 2007/08 administrative review. The petitioner disputes AVISMA's claim and has requested that the Department require AVISMA to report the disputed sales in this review. The petitioner contends that, if AVISMA does not report these sales, the Department should apply facts available with an adverse inference to AVISMA for not acting to the best of its ability.

Section 351.401(i) of the Department's regulations states that, in identifying the date of sale of the subject merchandise or foreign like product, the Secretary normally will use the date of invoice, as recorded in the exporter's or producer's records kept in the ordinary course of business. The Preamble to those regulations clarifies that, “* * * absent satisfactory evidence that the terms of sale were finally established on a different date, the Department will presume that the date of sale is the date of invoice.” See Antidumping Duties; Countervailing Duties, 62 FR at 27349.

As mentioned above, we have conducted the verification of AVISMA's U.S. sales response. We examined AVISMA's bill-and-hold arrangements with several of its U.S. customers for various products it sells in the United States. We found that AVISMA issues the invoice with set terms of the sale but, at the request of its bill-and-hold customers, it ships the items at a later date. We determined that the material terms of sale for these bill-and-hold transactions did not change between the date of invoice and date of shipment. Through our examination of AVISMA's accounting records, we found that, although the merchandise may be in AVISMA's warehouse for some time until it ships the merchandise to its U.S. customers, AVISMA treats the inventory in its normal books and records as if it left the warehouse for shipment on the date it issues the invoice. Thus, according to AVISMA's books and records, the company treats the sales made through the bill-and-hold methodology as final sales although AVISMA may not have shipped the merchandise to its U.S. customer until sometime later or may not have received payment for the sale until after it shipped the merchandise. For further information, See U.S. Sales Verification Report and Decision Memorandum entitled “Magnesium Metal from the Russian Federation—Bill-and-Hold Sales Invoiced During the 2007/2008 Administrative Review,” dated May 7, 2010.

Finally, through our examination of customs documents related to the bill-and-hold sales, we found that all of the disputed sales entered for consumption during the 2007/08 POR and, therefore, will be liquidated in accordance with the final court ruling concerning the final results of that review. See U.S. Sales Verification Report.

Constructed Export Price

AVISMA identified all of its sales to the United States as constructed export-price (CEP) sales because the U.S. sales were made for the account of AVISMA by AVISMA's U.S. affiliate, VSMPO-Tirus, U.S., Inc. (Tirus US), to unaffiliated purchasers in the United States. AVISMA and Tirus US are affiliated because Tirus US is a wholly owned subsidiary of AVISMA. See section 771(33)(E) of the Act. U.S. sales to the first unaffiliated party were made in the United States by the U.S. affiliate, thus satisfying the legal requirements for considering these transactions to be CEP sales. See section 772(b) of the Act.

We calculated CEP based on the packed, C.I.F. price to unaffiliated purchasers in the United States. In accordance with section 772(c)(2) of the Act, for AVISMA's CEP sales we made deductions from price for movement expenses and discounts, where appropriate. More specifically, we deducted early-payment discounts, expenses for Russian railway freight from plant to port, freight insurance, Russian brokerage, handling and port charges, international freight and marine insurance, U.S. customs duties, U.S. brokerage, handling, and port charges, U.S. warehousing, and U.S. inland freight.

In accordance with section 772(d)(1) of the Act, we deducted direct selling expenses and indirect selling expenses related to commercial activity in the United States. See also Statement of Administrative Action accompanying the Uruguay Round Agreements Act, H.R. Doc. No. 103-316, vol. 1 (1994) at 823-824. Pursuant to sections 772(d)(3) and 772(f) of the Act, we made an adjustment for CEP profit allocated to expenses deducted under section 772(d)(1) of the Act. In accordance with section 772(f) of the Act, we computed profit based on the total revenues realized on sales in both the U.S. and home markets, less all expenses associated with those sales. We then allocated profit to expenses incurred with respect to U.S. economic activity based on the ratio of total U.S. expenses to total expenses for both the U.S. and home markets. See AVISMA Preliminary Results Analysis Memorandum dated May 7, 2010.

Normal Value

Based on a comparison of the aggregate quantity of home-market and U.S. sales and absent any information that a particular market situation in the exporting country did not permit a proper comparison, we determined that the quantity of foreign like product sold by AVISMA in the exporting country was sufficient to permit a proper comparison with the sales of the subject merchandise to the United States under section 773(a) of the Act. AVISMA's quantity of sales in its home market was greater than five percent of its sales to the U.S. market. Therefore, in accordance with section 773(a)(1)(B)(i) of the Act, we considered basing normal value on the prices at which the foreign like product was first sold for consumption in the exporting country in the usual commercial quantities and in the ordinary course of trade and, to the extent practicable, at the same level of trade as the CEP sales.

In accordance with section 771(16)(A) of the Act, we considered all products produced by AVISMA that are covered by the description in the Scope of the Order section, above, and that were sold in the home market during the POR to be foreign like products for purposes of determining appropriate product comparisons to U.S. sales. In accordance with sections 771(16)(B) and (C) of the Act, where there were no sales of identical merchandise in the home market to compare to U.S. sales, we considered comparing U.S. sales to the most similar foreign like product on the basis of the product characteristics we determined to be the most appropriate for purposes of matching products.

Cost-of-Production Analysis

We disregarded below-cost sales in accordance with section 773(b) of the Act in the last completed review with respect to AVISMA in which it participated. See Magnesium Metal from the Russian Federation: Final Results of Antidumping Duty Administrative Review, 73 FR 52642, 52643 (September 10, 2008) (06/07 Final). Therefore, we have reasonable grounds to believe or suspect that sales of the foreign like product under consideration for the determination of normal value in this review may have been made at prices below the cost of production (COP) as provided by section 773(b)(2)(A)(ii) of the Act. Therefore, pursuant to section 773(b)(1) of the Act, we conducted a COP investigation of sales by AVISMA in the home market.

In accordance with section 773(b)(3) of the Act, we calculated a weighted-average COP based on the sum of the cost of materials and fabrication for the foreign like product, plus amounts for home-market selling, general and administrative expenses, interest expense, and packing expenses.

In its normal books and records, AVISMA treats raw magnesium as a by-product of its titanium operations. Raw magnesium and chlorine gas are produced jointly during the third major processing step, the electrolysis stage (i.e., the split-off point), during which both products become identifiable physically. The calculation of the by-product value for raw magnesium starts with the total sales value of finished goods produced. This amount is then reduced by the budgeted profit, selling expenses, and post-split-off costs. The remaining amount is deemed to represent the total net realizable value (NRV) of raw magnesium. This value is used to value the raw magnesium offset in calculating a total NRV for chlorine gas.

For reporting purposes in this administrative review, AVISMA departed from its normal books and records and estimated the value of chlorine gas based on a facility it intends to operate in the future. It also treated chlorine gas as a by-product of raw magnesium production. AVISMA valued chlorine gas at the estimated cost of liquid chlorine plus estimated transportation and gasification costs it estimated for the new facility. It then deducted the total estimated value of chlorine gas from the total joint costs and assigned the remaining joint costs to raw magnesium. See AVISMA's August 4, 2009, section D response at 34-36 and exhibits 4B and 4C.

We agree with AVISMA that for purposes of this review it is proper to depart from its normal books and records. We preliminarily find, however, that it is reasonable to treat chlorine gas and market-quality raw magnesium produced jointly at the split-off point as co-products because the total NRV of chlorine gas relative to the total NRV of market-quality raw magnesium is significant. This is consistent with our findings in the 2006/2007 review of the order where we treated chlorine gas and market-quality raw magnesium as co-products. See 06/07 Final, and accompanying Issues and Decision Memorandum at Comments 1-3.

For the purpose of allocating the split-off-point joint costs to these two co-products, we estimated the NRV of chlorine gas. We estimated the NRV of chlorine gas following the same replacement-value method we used in the 2006/2007 review. To calculate the NRV of market-quality raw magnesium, we started with AVISMA's 2002 average values reported for pure magnesium and magnesium metal products. From these average values we deducted the separable costs incurred by AVISMA beyond the split-off point. We also accounted for the actual quantity of market-quality raw magnesium used to produce one metric ton of pure magnesium, or magnesium metal, by application of the product-specific yield ratio.

We recalculated the joint costs incurred at the split-off point during the POR by adding back the market-quality raw magnesium by-product offset and removing the cost of chlorine gas (i.e., the chlorine gas produced at split-off point and recycled back to the previous processing stage) from the inputs used in the production of market-quality raw magnesium and chlorine gas. Likewise, we adjusted the split-off-point chlorine-gas production quantity for the quantities recycled back to the previous processing stage.

We allocated the split-off-point joint costs to chlorine gas and market-quality raw magnesium in proportion to their respective NRVs. We used the net interest expense ratio that AVISMA calculated based on the amounts reported in AVISMA's 2008 fiscal-year audited consolidated financial statements prepared in accordance with International Financial Reporting Standards.

For more details, See Memorandum to Neal M. Halper, Director, Office of Accounting, through Michael P. Martin, Lead Accountant, from Sheikh M. Hannan, Senior Accountant, entitled “Cost of Production and Constructed Value Calculation Adjustments for the Preliminary Results—PSC VSMPO-AVISMA Corporation and VSMPO—Tirus US Inc.,” dated May 7, 2010.

After calculating the COP and in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates. Pursuant to section 773(b)(2)(C) of the Act, when less than 20 percent of a respondent's sales of a given product were at prices less than the COP, we do not disregard any below-cost sales of that product because the below-cost sales were not made in substantial quantities within an extended period of time. When 20 percent or more of a respondent's sales of a given product were at prices less than the COP, we disregard the below-cost sales because they were made in substantial quantities within an extended period of time pursuant to sections 773(b)(2)(B) and (C) of the Act and because, based on comparisons of prices to weighted-average COPs for the POR, such sales were at prices which would not permit recovery of all costs within a reasonable period of time in accordance with section 773(b)(2)(D) of the Act. Based on this test, we did not disregard any of AVISMA's home-market sales of magnesium metal because all such sales passed the cost test. See AVISMA Preliminary Results Analysis Memorandum dated May 7, 2010.

Level of Trade

In the U.S. market, AVISMA made CEP sales. In the case of CEP sales, we identified the level of trade based on the price after the deduction of expenses and profit under section 772(d) of the Act. Although the starting price for CEP sales was based on sales made by the affiliated reseller to unaffiliated customers through two channels of distribution, sales to end-users and distributors, AVISMA reported similar selling activities associated with all sales to the affiliated reseller (i.e., at the CEP level of trade).

AVISMA reported one channel of distribution in the home market, sales to end-users. We found that this channel of distribution constitutes a single level of trade in the home market. To determine whether home-market sales were made at a different level of trade than U.S. sales, we examined stages in the marketing process and selling functions along the chain of distribution between the producer and the unaffiliated customer. We found that there were significant differences between the selling activities associated with the CEP level of trade and those associated with the home-market level of trade and, thus, we found the CEP level of trade to be different from the home-market level of trade. Further, we found the CEP level of trade to be at a less advanced stage of distribution than the home-market level of trade.

Because AVISMA reported no home-market levels of trade that were equivalent to the CEP level of trade and because we determined that the CEP level of trade was at a less advanced stage than the single home-market level of trade, we were unable to determine a level-of-trade adjustment based on the respondent's home-market sales of the foreign like product. Furthermore, we have no other information that provides an appropriate basis for determining a level-of-trade adjustment. For AVISMA's CEP sales, we made a CEP-offset adjustment in accordance with section 773(a)(7)(B) of the Act. For a description of our level-of-trade analysis for these preliminary results, See AVISMA Preliminary Results Analysis Memorandum dated May 7, 2010.

Currency Conversion

For purposes of the preliminary results and in accordance with section 773A of the Act, we made currency conversions based on the official exchange rates in effect on the dates of the U.S. sales as certified by the Federal Reserve Bank of New York. See 19 CFR 351.415.

Preliminary Results of Review

As a result of our review, we preliminarily determine that the following weighted-average dumping margins on magnesium metal from the Russian Federation exist for the period April 1, 2008, through March 31, 2009:

Manufacturer/exporter | Margin (percent)
PSC VSMPO-AVISMA Corporation | 0.00
Solikamsk Magnesium Works | *
* No shipments or sales subject to this review. The firm has an individual rate from the last segment of the proceeding in which the firm had shipments or sales.

Disclosure and Public Comment

Pursuant to 19 CFR 351.224(b), the Department will disclose to any party to the proceeding the calculations performed in connection with these preliminary results within five days after the date of publication of this notice. Pursuant to 19 CFR 351.309(c), case briefs or other written comments may be submitted to the Assistant Secretary for Import Administration no later than seven days after the date of the last verification report issued in this review and rebuttal briefs, limited to issues raised in case briefs, no later than five days after the deadline date for case briefs. A list of authorities used and an executive summary of issues should accompany any briefs submitted to the Department. This summary should be limited to five pages total, including footnotes.

In accordance with 19 CFR 351.310, we will hold a public hearing, if requested, to afford interested parties an opportunity to comment on arguments raised in case or rebuttal briefs. If requested, a hearing will be held two days after the deadline for submission of the rebuttal briefs at the U.S. Department of Commerce, 14th Street and Constitution Avenue, NW., Washington, DC 20230, at a time and location to be determined. Parties should confirm by telephone the date, time, and location of the hearing two days before the scheduled date. Interested parties who wish to request a hearing, or to participate if one is requested, must submit a written request to the Assistant Secretary for Import Administration, U.S. Department of Commerce, Room 1870, within 30 days of the date of publication of this notice. See 19 CFR 351.310(c). Requests should contain (1) the party's name, address, and telephone number, (2) the number of participants, and (3) a list of the issues to be discussed. At the hearing, each party may make an affirmative presentation only on issues raised in that party's case brief and may make rebuttal presentations only on arguments included in that party's rebuttal brief. See 19 CFR 351.310(c).

Assessment Rates

The Department shall determine, and CBP shall assess, antidumping duties on all appropriate entries. In accordance with 19 CFR 351.212(b)(1), we have calculated an importer-specific assessment rate for AVISMA reflecting these preliminary results of review.

The Department clarified its “automatic assessment” regulation on May 6, 2003. See Assessment of Antidumping Duties. This clarification will apply to entries of subject merchandise during the POR produced by AVISMA or SMW for which AVISMA or SMW did not know their merchandise was destined for the United States. In such instances, we will instruct CBP to liquidate unreviewed entries of merchandise produced by AVISMA or SMW at the all-others rate if there is no rate for the intermediate company(ies) involved in the transaction. For a full discussion of this clarification, See Assessment of Antidumping Duties.

The Department will issue instructions to CBP 15 days after the publication of the final results of review.

Cash-Deposit Requirements

The following deposit requirements will be effective upon completion of the final results of this administrative review for all shipments of the subject merchandise entered, or withdrawn from warehouse, for consumption on or after the publication of the final results of this administrative review, as provided in section 751(a)(1) of the Act: (1) The cash-deposit rate for the reviewed firms will be those established in the final results of this review; (2) for previously reviewed or investigated companies not covered in this review, the cash-deposit rate will continue to be the company-specific rate published for the most recent period; (3) if the exporter is not a firm covered in this review, a prior review, or the less-than-fair-value (LTFV) investigation but the manufacturer is, the cash-deposit rate will be the rate established for the most recent period for the manufacturer of the subject merchandise; (4) if neither the exporter nor the manufacturer is a firm covered in this or any previous segment of the proceeding, the cash-deposit rate will continue to be the all-others rate established in the LTFV investigation, which is 21.01 percent. See Antidumping Duty Order. These cash-deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

The preliminary results of this administrative review and this notice are issued and published in accordance with sections 751(a)(1) and 777(i)(1) of the Act.

Dated: May 7, 2010.
Ronald K. Lorentzen,
Deputy Assistant Secretary for Import Administration.

[FR Doc. 2010-11463 Filed 5-12-10; 8:45 am]

BILLING CODE 3510-DS-P